DEPARTMENT OF COMMERCE

Foreign-Trade Zones Board

[Docket 9-2008]

Foreign-Trade Zone 39 Dallas-Fort Worth, TX; Application for Subzone Status; The Apparel Group, Ltd. (Apparel Distribution)

An application has been submitted to the Foreign-Trade Zones Board (the Board) by the Dallas/Fort Worth International Airport Board, grantee of FTZ 39, requesting special-purpose subzone status for the apparel warehousing and distribution facility of The Apparel Group Ltd. (TAG), located in Lewisville, Texas. The application was submitted pursuant to the provisions of the Foreign-Trade Zones Act, as amended (19 U.S.C. 81a-81u), and the regulations of the Board (15 CFR part 400). It was formally filed on February 19, 2008.

The TAG facility (150 employees/26 acres/153,750 sq.ft.) is located at 883 Trinity Drive in Lewisville (Denton County), Texas. The facility is used for warehousing and distribution of foreign- origin apparel for the U.S. market and export. FTZ procedures would be utilized to support TAG's distribution activity. Finished apparel products to be admitted to the proposed subzone for distribution would include men's, boys', women's and girls' coats, suits, jackets, trousers, pants, blouses, shirts, tops, jumpers, gowns, underwear, hosiery, pajamas, robes, athletic wear, neckties, scarves, shawls, mufflers, gloves/mittens, uniforms, and infants' apparel. Certain textile fabrics (wool, cotton, man-made fiber) would also be distributed from the proposed subzone. All foreign-origin apparel and textile products classified under Textile Import Quota categories will be admitted to the proposed subzone under privileged foreign statu s (19 CFR § 146.41) or domestic (duty paid) status (19 CFR § 146.43). The applicant is not seeking manufacturing or processing authority with this request.

FTZ procedures would exempt TAG from customs duty payments on foreign products that are re-exported (about 4% of shipments). On domestic sales, duty payments would be deferred until the foreign merchandise is shipped from the facility and entered for U.S. consumption. Certain logistical/supply chain management efficiencies would also be realized through subzone status. The application indicates that the savings from FTZ procedures would help improve the facility's international competitiveness.

In accordance with the Board's regulations, a member of the FTZ Staff has been designated examiner to investigate the application and report to the Board.

Public comment is invited from interested parties. Submissions (original and 3 copies) shall be addressed to the Board's Executive Secretary at the address below. The closing period for their receipt is April 28, 2008. Rebuttal comments in response to material submitted during the foregoing period may be submitted during the subsequent 15-day period to May 12, 2008.

A copy of the application and accompanying exhibits will be available for public inspection at each of the following locations: U.S. Department of Commerce Export Assistance Center, 808 Throckmorton Street, Fort Worth, Texas 76102-6315; and, Office of the Executive Secretary, Foreign-Trade Zones Board, Room 2814B, U.S. Department of Commerce, 1401 Constitution Avenue, NW, Washington, DC 20230-0002. For further information, contact Pierre Duy at pierre_duy@ita.doc.gov, or (202) 482-1378.

Dated: February 19, 2008.
Andrew McGilvray,
Executive Secretary.

[FR Doc. E8-3710 Filed 2-26-08; 8:45 am]

BILLING CODE 3510-DS-S